FEDERAL COMMUNICATIONS COMMISSION

[Report No. 2377]

Petitions for Reconsideration and Clarification of Action in Rulemaking Proceedings; Correction

January 12, 2000.

Petitions for Reconsideration have been filed in the Commission's rulemaking proceedings listed in this Public Notice and published pursuant to 47 CFR Section 1.429(e). The full text of these documents are available for viewing and copying in Room CY-A257, 445 12th Street, S.W., Washington, D.C. or may be purchased from the Commission's copy contractor, ITS, Inc. (202) 857-3800. Oppositions to these petitions must be filed by February 7, 2000. See Section 1.4(b)(1) of the Commission's rules (47 CFR 1.4(b)(1)). Replies to an opposition must be filed within 10 days after the time for filing oppositions has expired.

Subject: Communications Assistance for Law Enforcement Act (CC Docket No. 97-213)

Number of Petitions Filed: 3.

Federal Communications Commission.

Magalie Roman Salas,
Secretary.

[FR Doc. 00-1442 Filed 1-20-00; 8:45 am]

BILLING CODE 6712-01-M